ENVIRONMENTAL PROTECTION AGENCY

[EPA-HQ-OPPT-2013-0403; FRL-9902-67-OEI]

Information Collection Request Submitted to OMB for Review and Approval; Comment Request; EPA's Design for the Environment (DfE) Logo Redesign Consultations

AGENCY: Environmental Protection Agency (EPA).

ACTION: Notice.

SUMMARY: The Environmental Protection Agency has submitted a new information collection request (ICR), “EPA's Design for the Environment (DfE) Logo Redesign Consultations” (EPA ICR No. 2487.01, OMB Control No. 2070-NEW) to the Office of Management and Budget (OMB) for review and approval in accordance with the Paperwork Reduction Act (44 U.S.C. 3501 et seq.). Public comments were previously requested via the Federal Register (78 FR 44560) on July 24, 2013, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 13, 2013.

ADDRESSES: Submit your comments, referencing Docket ID Number EPA-HQ-OPPT-2013-0403, to (1) EPA online using www.regulations.gov (our preferred method), by email to oppt.ncic@epa.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Pamela Myrick, Deputy Director, Environmental Assistance Division, Office of Pollution Prevention and Toxics, Mail code: 7408-M, Environmental Protection Agency, 1200 Pennsylvania Ave. NW., Washington, DC 20460; telephone number: 202-554-1404; fax number: 202-564-8251; email address: TSCA-Hotline@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: This information collection supports the consultation process by which the U.S. Environmental Protection Agency (EPA) will select a revised logo and messaging for its Design for the Environment (DfE) program. A key goal of the Agency's DfE program is to work with businesses to voluntarily incorporate safer chemicals and other health and environmental considerations into the design of their products and processes. To achieve this goal, DfE relies on outreach activities and information dissemination to industry participants and the public, as well as non-governmental organizations, EPA Regions, federal government laboratories, and state and local governments. Effective outreach and communications are vital to program success. The DfE program must ensure that its logo communicates clearly its safer chemistry and pollution prevention goals.

DfE's current logo has remained unchanged since the program began in 1992. The current DfE logo is dated and does not adequately convey and enable DfE's objective: To advance chemical-based products that are safer for people and the environment. A redesigned logo and messaging are needed to enhance communications and for the program to reach its potential. It is important for the redesign effort to be informed by consumers, manufacturing partners, retailers, and other key audiences.

To help ensure broad public participation in the redesign process and that EPA receives input from a diverse demographic, the Agency will conduct a number of focus group sessions to obtain feedback on several logo design concepts and associated wording. DfE will also sponsor two surveys to gauge public awareness and understanding of the logo and its meaning before and after the redesign.

Form Numbers: None.

Respondents/affected entities: Individual adult consumers who are members of the general population.

Respondent's obligation to respond: Voluntary.

Estimated number of respondents: 8,990.

Frequency of response: On occasion.

Total estimated burden: 1,997 hours per year. Burden is defined at 5 CFR 1320.03(b).

Total estimated cost: $62,076 per year, includes $0 annualized capital or operation and maintenance costs.

Changes in the estimates: This is a new ICR.

John Moses,
Director, Collection Strategies Division.

[FR Doc. 2013-27058 Filed 11-12-13; 8:45 am]

BILLING CODE 6560-50-P